DEPARTMENT OF THE INTERIOR

Bureau of Land Management

[LLCA930000-L14400000-ET0000; CACA 054926]

Notice of Application for Withdrawal and Opportunity for Public Meeting; California

AGENCY: Bureau of Land Management, Interior.

ACTION: Notice.

SUMMARY: The United States Forest Service (USFS) has filed an application with the Bureau of Land Management (BLM) requesting that the Secretary of the Interior withdraw approximately 82.5 acres of National Forest System land from location and entry under the United States mining laws, but not leasing under the mineral leasing laws for a 20-year term to protect the recreational resources at the Spanish Creek Campground located in the Plumas National Forest, California. Publication of this notice temporarily segregates the land for up to 2 years from location and entry under the United States mining laws while the withdrawal application is being processed. This notice also gives the public an opportunity to comment on the withdrawal application and to request a public meeting. The land has been and will remain open to such forms of disposition allowed by law on National Forest System land and to mineral leasing, except for location and entry under the mining laws.

DATES: Comments and public meeting requests must be received by November 7, 2016.

ADDRESSES: Comments and meeting requests should be sent to the Mt. Hough Ranger District, 39696 Hwy. 70, Quincy, California 95971, Attention: Leslie Edlund, or emailed to comments-pacificsouthwest-plumas-mthough@fs.fed.us with Subject: Spanish Creek Campground Mineral Withdrawal.

FOR FURTHER INFORMATION CONTACT: Elizabeth Easley, BLM California State Office, 916-978-4673 or Donna Duncan, Plumas National Forest, Mt. Hough Ranger District, 530-283-7614 during regular business hours, 8:00 a.m. to 4:30 p.m. Monday through Friday, except holidays. Persons who use a telecommunications device for the deaf (TDD) may call the Federal Information Relay Service (FIRS) at 1-800-877-8339 to contact either of the above individuals. The FIRS is available 24 hours a day, 7 days a week, to leave a message or question. You will receive a reply during normal business hours.

SUPPLEMENTARY INFORMATION: The applicant is the USFS. The application requests the Secretary of the Interior to withdraw, subject to valid existing rights, the following described land from location and entry under the United States mining laws, but not from leasing under the mineral leasing laws, for a period of 20 years to protect the recreational resources within the Spanish Creek Campground.

Plumas National Forest

Mount Diablo Meridian

T. 25 N., R. 9 W.,

Sec 15, W½NE¼SW¼, NE¼SW¼SW¼, NW¼SE¼SW¼, W½NE¼SE¼SW¼, E½NW¼SW¼, W½E½NE¼SW¼, S½SE¼SW¼NW¼, and SE¼SW¼SW¼NW¼.

The area described contains approximately 82.5 acres in Plumas County.

The purpose of the requested withdrawal is to protect the recreational resources at the Spanish Creek Campground. The use of a right-of-way, interagency agreement, or cooperative agreement would not adequately constrain non-discretionary uses and would not provide adequate protection of the Federal investment of funds and infrastructure at the Spanish Creek Campground. There are no suitable alternative sites because the land described is the only land that encompasses the Spanish Creek Campground.

No additional water rights need to be acquired to fulfill the purpose of the requested withdrawal.

Records related to the application may be examined by contacting either of the individuals listed in the FOR FURTHER INFORMATION CONTACT section above. For a period until November 7, 2016, all persons who wish to submit comments, suggestions, or objections in connection with the withdrawal application may present their views in writing to the BLM California State Office at the address noted above. Comments, including names and street addresses of respondents, will be available for public review at the address indicated above during regular business hours.

Before including your address, phone number, email address, or other personal identifying information in your comment, you should be aware that your entire comment—including your personal identifying information—may be made publicly available at any time. While you may ask us to withhold your personally identifying information from public review, we cannot guarantee that we will be able to do so.

Notice is hereby given that an opportunity for a public meeting is afforded in connection with the application for withdrawal. All interested persons who desire a public meeting for the purpose of being heard on the application for withdrawal must submit a written request to the BLM California State director no later than November 7, 2016. If the authorized officer determines that a public meeting will be held, a notice of the time and place will be published in the Federal Register and a local newspaper at least 30 days before the scheduled date of the meeting.

For a period until August 9, 2018, subject to valid existing rights, the land described in this notice will be segregated from location and entry under the United States mining laws, unless the application is denied or canceled or the withdrawal is approved prior to that date. Licenses, permits, cooperative agreements, or discretionary land use authorizations of a temporary nature which will not significantly impact the values to be protected by the withdrawal may be allowed with the approval of the authorized officer of the USFS during the temporary segregation period.

The application will be processed in accordance with the regulations set forth in 43 CFR part 2300.

Thomas Pogacnik,
California Deputy State Director.

[FR Doc. 2016-18835 Filed 8-8-16; 8:45 am]

BILLING CODE 4311-15-P